DEPARTMENT OF TRANSPORTATION

National Highway Traffic Safety Administration

49 CFR Part 575

[Docket No. NHTSA-2010-0018]

Notice of Public Meeting; Tire Fuel Efficiency

AGENCY: National Highway Traffic Safety Administration (NHTSA), Department of Transportation (DOT).

ACTION: Proposed rule; notice of public meeting.

SUMMARY: On June 22, 2009, NHTSA published a notice of proposed rulemaking (NPRM) proposing a new consumer information program for replacement tires (74 FR 29542). The new consumer information program responded to a requirement in the Energy Independence and Security Act of 2007 (EISA), which directed NHTSA to develop a national tire fuel efficiency rating system and consumer education program for replacement tires. The program would inform consumers about the effect of tires on fuel efficiency, safety and durability.

Prior to the NPRM, NHTSA conducted focus group studies in which it presented several labels using different graphics and scales to relay the ratings proposed in the NPRM. After the NPRM was issued, NHTSA conducted an internet survey to further explore what influences consumers' tire purchasing decisions and how best to convey the information in this new program to consumers.

To further refine the consumer education portion of this new program, NHTSA intends to conduct further consumer research. NHTSA invites interested parties to submit written comments and participate in a public meeting on the research plan using the instructions set forth in this notice. As described in the Procedural Matters section of this notice, each speaker should anticipate speaking for approximately ten minutes, although we may need to adjust the time for each speaker if there is a large turnout. To facilitate discussion, NHTSA has placed documents concerning early research, and the draft research plan for the future in the docket. NHTSA will consider the public comments received in developing a research plan to aid in the development of consumer information requirements and NHTSA's consumer education plan regarding tire fuel efficiency.

DATES: Public Meeting: The public meeting will be held on Friday, March 26, 2010 from 9 a.m. to 5 p.m. at the Department of Transportation, 1200 New Jersey Ave., SE., Washington, DC 20590. NHTSA recommends that all persons attending the meeting arrive at least 45 minutes early in order to facilitate entry into the Department. If you wish to attend or speak at the meeting, you must register in advance no later than Monday, March 22, 2010, by following the instructions in the Procedural Matters section of this notice. NHTSA will consider late registrants to the extent time and space allows, but NHTSA cannot ensure that late registrants will be able to speak at the meeting.

Comments: NHTSA must receive written comments by Friday, April 2, 2010.

FOR FURTHER INFORMATION CONTACT: Ms. Mary Versailles, Telephone: 1-202-366-2057, Office of International Vehicle, Fuel Economy and Consumer Standards, National Highway Traffic Safety Administration, 1200 New Jersey Avenue, SE., Washington, DC 20590. E-mail: mary.versailles@dot.gov.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue, SE., Washington, DC 20590.

• Hand Delivery or Courier: U.S. Department of Transportation, West Building, Ground Floor, Room W12-140, 1200 New Jersey Avenue, SE., Washington, DC, between 9 a.m. and 5 p.m. Eastern time, Monday through Friday, except Federal holidays.

• Fax: 202-493-2251.

Regardless of how you submit your comments, you should mention the docket number of this document.

You may call the Docket at 1-800-647-5527.

Note that all comments received, including any personal information, will be posted without change to http://www.regulations.gov.

SUPPLEMENTARY INFORMATION: On June 22, 2009, NHTSA published a notice of proposed rulemaking (NPRM) proposing a new consumer information program for replacement tires (74 FR 29542). The new consumer information program responded to a requirement in the Energy Independence and Security Act of 2007 (EISA),¹ which directed NHTSA to develop a national tire fuel efficiency rating system and consumer education program for replacement tires. The program would inform consumers about the effect of tires on fuel efficiency, safety and durability.

¹ Public Law 110-140, 121 Stat. 1492 (Dec. 18, 2007).

Prior to the NPRM, NHTSA conducted focus group studies in which it presented several labels using different graphics and scales to relay the ratings proposed in the NPRM. After the NPRM was issued, NHTSA conducted an internet survey to further explore what influences consumers' tire purchasing decisions and how best to convey the information in this new program to consumers.

To further refine the consumer education portion of this new program, NHTSA intends to conduct further consumer research. NHTSA invites interested parties to submit written comments and participate in a public meeting on the research plan using the instructions set forth in this notice. To facilitate discussion, NHTSA has placed documents concerning early research, and the draft research plan for the future in the docket. NHTSA will consider the public comments received in developing a research plan to aid in the development of consumer information requirements and NHTSA's consumer education plan regarding tire fuel efficiency.

NHTSA would like to emphasize that the only topic of discussion at this public meeting is NHTSA's research plans for consumer education. Comments on other aspects of the proposed regulation should be presented to NHTSA as described in the NPRM and not via this forum.

Procedural Matters: The meeting will be open to the public with advanced registration for seating on a space-available basis. Individuals wishing to register to assure a seat in the public seating area should provide their name, affiliation, phone number, and e-mail address to Ms. Mary Versailles using the contact information in the FOR FURTHER INFORMATION CONTACT section at the beginning of this notice no later than Monday March 22, 2010. Should it be necessary to cancel the meeting due to an emergency or some other reason, NHTSA will take all available means to notify registered participants by e-mail or telephone.

The meeting will be held at a site accessible to individuals with disabilities. Individuals who require accommodations such as sign language interpreters should contact Ms. Mary Versailles using the contact information in the FOR FURTHER INFORMATION CONTACT section above no later than Monday March 22, 2010. Any written materials NHTSA presents at the meeting will be available electronically on the day of the meeting to accommodate the needs of the visually impaired. Because this meeting is solely to develop a research plan, a transcript of the meeting will not be created. Therefore, NHTSA recommends that speakers also submit materials to the docket for the record.

How long will I have to speak at the public meeting?

Once NHTSA learns how many people have registered to speak at the public meeting, NHTSA will allocate an appropriate amount of time to each participant, allowing time for lunch and necessary breaks throughout the day. For planning purposes, each speaker should anticipate speaking for approximately ten minutes, although we may need to adjust the time for each speaker if there is a large turnout. To accommodate as many speakers as possible, NHTSA prefers that speakers not use technological aids (e.g., audio-visuals, computer slideshows). However, if you plan to do so, you must let Ms. Mary Versailles know by Monday, March 22, 2010, using the contact information in the FOR FURTHER INFORMATION CONTACT section above. You also must make arrangements to provide your presentation or any other aids to NHTSA in advance of the meeting in order to facilitate set-up. During the week of March 22nd, NHTSA will post information on its Web site (http://www.nhtsa.dot.gov) indicating the amount of time allocated for each speaker and each speaker's approximate order on the agenda for the meeting.

How do I prepare and submit written comments?

It is not necessary to attend or to speak at the public meeting to be able to comment on the issues. NHTSA invites the submission of written comments, which the agency will consider in preparing its research plan. Your comments must be written and in English. To ensure that your comments are correctly filed in the Docket, please include the docket number at the beginning of this notice in your comments.

Your primary comments may not exceed 15 pages.² However, you may attach supporting documents to your primary comments. There is no limit to the length of the attachments.

Anyone is able to search the electronic form of all comments received into any of our dockets by the name of the individual submitting the comment (or signing the comment, if submitted on behalf of an association, business, labor union, etc.). You may review DOT's complete Privacy Act Statement in the Federal Register at 65 FR 19477, April 11, 2000, or you may visit http://www.regulations.gov.

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue, SE., Washington, DC 20590. Include a cover letter supplying the information specified in our confidential business information regulation (49 CFR part 512).

In addition, send two copies from which you have deleted the claimed confidential business information to Docket Management, 1200 New Jersey Avenue, SE., West Building, Room W12-140, Washington, DC 20590, or submit them electronically, in the manner described at the beginning of this notice.

Will the agency consider late comments?

NHTSA will consider all comments that Docket Management receives before the close of business on the comment closing date indicated above under DATES. To the extent the research schedule allows, NHTSA will try to consider comments that Docket Management receives after that date, but we cannot ensure that we will be able to do so.³

Please note that even after the comment closing date we will continue to file relevant information in the docket as it becomes available. Further, some commenters may submit late comments. Accordingly, we recommend that you periodically check the docket for new material.

Issued: March 5, 2010.
Stephen R. Kratzke,
Associate Administrator for Rulemaking.

[FR Doc. 2010-5177 Filed 3-11-10; 8:45 am]

BILLING CODE P